DEPARTMENT OF HOMELAND SECURITY

Federal Emergency Management Agency

[Docket ID FEMA-2014-0002: Internal Agency Docket No. FEMA-B-1433]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 24, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1433, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps .fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-based studies:

Community | Community map repository address
Lower Levisa Watershed
Floyd County, Kentucky, and Incorporated Areas
Maps Available for Inspection Online at: www.fema.gov/preliminaryfloodhazarddata
City of Allen | City Hall, 22 Main Street, Allen, KY 41601.
City of Martin | City Hall, 11729 Main Street, Martin, KY 41649.
City of Prestonsburg | Municipal Building, 200 North Lake Drive, Prestonsburg, KY 41653.
City of Wayland | City Hall, 2643 King Kelly Coleman Highway, Wayland, KY 41666.
City of Wheelwright | City Hall, 1479 Kentucky Route 306, Wheelwright, KY 41669.
Unincorporated Areas of Floyd County | Courthouse Annex, 313 Westminster Street, Prestonsburg, KY 41653.
Johnson County, Kentucky, and Incorporated Areas
Maps Available for Inspection Online at: www.fema.gov/preliminaryfloodhazarddata
City of Paintsville | City Offices, 340 Main Street, Paintsville, KY 41240.
Unincorporated Areas of Johnson County | Johnson County Judge's Office, 908 3rd Street, Paintsville, KY 41240.
Knott County, Kentucky, and Incorporated Areas
Maps Available for Inspection Online at: www.fema.gov/preliminaryfloodhazarddata
City of Pippa Passes | Knott County Emergency Management, 40 Center Street, Hindman, KY 41822.
Unincorporated Areas of Knott County | Knott County Emergency Management, 40 Center Street, Hindman, KY 41822.
Lawrence County, Kentucky, and Incorporated Areas
Maps Available for Inspection Online at: www.fema.gov/preliminaryfloodhazarddata
City of Louisa | City Hall, 215 North Main Cross Street, Louisa, KY 41230.
Unincorporated Areas of Lawrence County | Lawrence County Judge's Office, 122 South Main Cross Street, 2nd Floor, Louisa, KY 41230.
Magoffin County, Kentucky, and Incorporated Areas
Maps Available for Inspection Online at: www.fema.gov/preliminaryfloodhazarddata
Unincorporated Areas of Magoffin County | Magoffin County Courthouse, Judge's Office, 201 East Maple Street, Salyersville, KY 41465.
Morgan County, Kentucky, and Incorporated Areas
Maps Available for Inspection Online at: www.fema.gov/preliminaryfloodhazarddata
Unincorporated Areas of Morgan County | Morgan County Courthouse, 450 Prestonsburg Street, West Liberty, KY 41472.
Pike County, Kentucky, and Incorporated Areas
Maps Available for Inspection Online at: www.fema.gov/preliminaryfloodhazarddata
Unincorporated Areas of Pike County | Pike County Courthouse, 146 Main Street, Pikeville, KY 41501.
Tug Fork Watershed
Martin County, Kentucky, and Incorporated Areas
Maps Available for Inspection Online at: www.fema.gov/preliminaryfloodhazarddata
City of Inez | Martin County Disaster Emergency Services, 100 Main Street, Inez, KY 41224.
Town of Warfield | Martin County Disaster Emergency Services, 100 Main Street, Inez, KY 41224.
Unincorporated Areas of Martin County | Martin County Disaster Emergency Services, 100 Main Street, Inez, KY 41224.
Lawrence County, Kentucky, and Incorporated Areas
Maps Available for Inspection Online at: www.fema.gov/preliminaryfloodhazarddata
City of Louisa | City Hall, 215 North Main Cross Street, Louisa, KY 41230.
Unincorporated Areas of Lawrence County | Lawrence County Judge's Office, 122 South Main Cross Street, 2nd Floor, Louisa, KY 41230.
Pike County, Kentucky, and Incorporated Areas
Maps Available for Inspection Online at: www.fema.gov/preliminaryfloodhazarddata
Unincorporated Areas of Pike County | Pike County Courthouse, 146 Main Street, Pikeville, KY 41501.

II. Non-watershed-based studies:

Community | Community map repository address
Contra Costa County, California, and Incorporated Areas
Maps Available for Inspection Online at: www.fema.gov/preliminaryfloodhazarddata
City of Antioch | Engineering and Development, Services Division, 200 H Street, Antioch, CA 94509.
City of Hercules | Engineering Department, 111 Civic Drive, Hercules, CA 94547.
City of Martinez | Engineering Department, 525 Henrietta Street, Martinez, CA 94553.
City of Oakley | Public Works and Engineering, 3231 Main Street, Oakley, CA 94561.
City of Pinole | Public Works Department, 2131 Pear Street, Pinole, CA 94564.
City of Pittsburg | Engineering Record Section, City Hall, 65 Civic Avenue, Pittsburg, CA 94565.
City of Richmond | Engineering Division, 450 Civic Center Plaza, Richmond, CA 94804.
City of San Pablo | Planning/Zoning, 13831 San Pablo Ave., San Pablo, CA 94806.
Unincorporated Areas of Contra Costa County | Public Works Department, 255 Glacier Drive, Martinez, CA 94553.
Traill County, North Dakota, and Incorporated Areas
Maps Available for Inspection Online at: http://www.fema.gov/preliminaryfloodhazarddata
Township of Belmont | Traill County Courthouse, 114 West Caledonia Avenue, Hillsboro, ND 58045.
Township of Bingham | Traill County Courthouse, 114 West Caledonia Avenue, Hillsboro, ND 58045.
Township of Caledonia | Traill County Courthouse, 114 West Caledonia Avenue, Hillsboro, ND 58045.
Township of Elm River | Traill County Courthouse, 114 West Caledonia Avenue, Hillsboro, ND 58045.
Township of Herberg | Traill County Courthouse, 114 West Caledonia Avenue, Hillsboro, ND 58045.

(Catalog of Federal Domestic Assistance No. 97.022, “Flood Insurance.”)

Dated: August 4, 2014.
Roy E. Wright,
Deputy Associate Administrator for Mitigation, Department of Homeland Security, Federal Emergency Management Agency.

[FR Doc. 2014-20040 Filed 8-22-14; 8:45 am]

BILLING CODE 9110-12-P